DEPARTMENT OF JUSTICE

Notice of Lodging Proposed Consent Decree

In accordance with Departmental Policy, 28 CFR 50.7, notice is hereby given that a proposed Consent Decree in United States v. Rapanos, No. 94-CV-70788-DT (E.D. Mich.), was lodged with the United States District Court for the Eastern District of Michigan on December 29, 2008.

This proposed Consent Decree concerns a complaint filed by the United States against John A. Rapanos, Judith Ann Nelkie Rapanos, Prodo, Inc., Rolling Meadows Hunt Club, and Pine River Bluff Estates, Inc., pursuant to 33 U.S.C. 1311(a), to obtain injunctive relief from and impose civil penalties against the Defendants for violating the Clean Water Act by discharging pollutants without a permit into waters of the United States. The proposed Consent Decree resolves these allegations by requiring the Defendants to perform mitigation and to pay a civil penalty.

The Department of Justice will accept written comments relating to this proposed Consent Decree for thirty (30) days from the date of publication of this Notice. Please address comments to Daniel R. Dertke, Environment & Natural Resources Division, U.S. Department of Justice, P.O. Box 23986, Washington, DC 20026-3986, and refer to United States v. Rapanos, DJ # 90-5-1-1-4274.

The proposed Consent Decree may be examined at the Clerk's Office, United States District Court for the Eastern District of Michigan, Theodore Levin U.S. Courthouse, 231 W. Lafayette Blvd., Detroit, Michigan 48226. In addition, the proposed Consent Decree may be viewed at http://www.usdoj.gov/enrd/Consent_Decrees.html.

Scott A. Schachter,
Assistant Section Chief, Environmental Defense Section, Environment & Natural Resources Division.

[FR Doc. E9-302 Filed 1-9-09; 8:45 am]

BILLING CODE 4410-CW-P